DEPARTMENT OF COMMERCE

National Oceanic and Atmospheric Administration

RIN 0648-XC146

Caribbean Fishery Management Council; Public Meetings

AGENCY: National Marine Fisheries Service (NMFS), National Oceanic and Atmospheric Administration (NOAA), Commerce.

ACTION: Notice of public meetings.

SUMMARY: The Caribbean Fishery Management Council (Council) will hold a meeting.

DATES: The meetings will be held on August 28-29, 2012. The Council will convene on Tuesday, August 28, 2012 from 9 a.m. to 5 p.m., and will reconvene on Wednesday, August 29, 2012, from 9 a.m. to 5 p.m.

ADDRESSES: The meetings will be held at the El Conquistador Hotel, #1000 El Conquistador Avenue, Fajardo, Puerto Rico.

FOR FURTHER INFORMATION CONTACT: Caribbean Fishery Management Council, 268 Muñoz Rivera Avenue, Suite 1108, San Juan, Puerto Rico 00918-1920, telephone: (787) 766-5926.

SUPPLEMENTARY INFORMATION: The Council will hold its 143rd regular Council Meeting to discuss the items contained in the following agenda:

August 28, 2012—9 a.m. to 5 p.m.

• Call to Order.

• Election of Officers.

• Adoption of Agenda.

• Consideration of the 142nd Council Meeting Verbatim Transcriptions.

• Executive Director's Report.

• Report from Public Hearings and Scoping Meetings.

—ACLs/AMs Seagrassess

—White Paper FMPs by Areas

—Regular Amendment on Parrotfish Trips, Size Limits, and Trap Escape Vents-Options Paper

Public Comment Period—(5) Five-minutes Presentations

August 29, 2012, 9 a.m.—5 p.m.

• Trap Reduction Project Report Update.

• Five Year Research Plan—Barbara Kojis.

• Queen Conch Compatible Regulations St. Croix and EEZ.

• Calendar vs. Fishing Year Issues.

• Enforcement Reports.

—Puerto Rico—DNER

—U.S. Virgin Islands—DPNR

—NOAA/NMFS

—U.S. Coast Guard

• Administrative Committee Recommendations (July 31, 2012 Meeting).

• Meetings Attended by Council Members and Staff.

• Public Comment Period (5-Minutes Presentations).

• Other Business.

• Next Council Meeting.

The established times for addressing items on the agenda may be adjusted as necessary to accommodate the timely completion of discussion relevant to the agenda items. To further accommodate discussion and completion of all items on the agenda, the meeting may be extended from, or completed prior to the date established in this notice.

The meetings are open to the public, and will be conducted in English. Simultaneous Interpretation (English/Spanish) will be provided. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: July 31, 2012.
Tracey L. Thompson,
Acting Deputy Director, Office of Sustainable Fisheries, National Marine Fisheries Service.

[FR Doc. 2012-19032 Filed 8-2-12; 8:45 am]

BILLING CODE 3510-22-P